DEPARTMENT OF ENERGY

Federal Energy Regulatory Commission

[Docket No. RP99-190-001]

National Fuel Gas Distribution Corporation; Notice for Limited Extension of Waiver

February 11, 2000.

Take notice that on January 31, 2000, pursuant to Rule 212 of the Rules and Regulations of the Commission, 18 CFR 385.212 and to the Commission's February 24, 1999 order in the above-captioned proceeding,¹ National Fuel Gas Distribution Corporation (National Fuel Distribution) tendered for filing a Motion For Extension of Limited Extension of Waiver and Report on Tennessee Flexibility Issues (Motion) of the Commission's “shipper must have title” policy.

¹ National Fuel Gas Distribution Corp. 86 FERC ¶ 61,179 (1999).

Pursuant to the Commission's initial order on National Fuel Distribution's waiver of the title policy, National Fuel distribution's waiver will expire on April 1, 2000.

National Fuel Distribution states that it is seeking Commission action before April 1, 2000, so that its current customer choice program in Pennsylvania may continue as approved during the time National Fuel Distribution acquires the certain additional flexibility on its interstate pipelines essential to permitting the release of capacity to its customers.

National Fuel Distribution requests that the Commission grant it an extension of its waiver of the shipper must have title policy for its capacity in New York for a term ending November 1, 2000, and for its retained capacity in Pennsylvania, for a term not to exceed one-year, subject to a quarterly reporting obligation.

Any person desiring to protest this filing should file a protest with the Federal Energy Regulatory Commission, 888 First Street, NE, Washington, DC 20426, in accordance with Section 385.211 of the Commission's Rules and Regulations. All such protests must be filed on or before February 18, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-3764 Filed 2-16-00; 8:45 am]

BILLING CODE 6717-01-M